SECURITIES AND EXCHANGE COMMISSION

Sunshine Act Meeting

Federal Register Citation of Previous Announcement: [67 FR 64940, October 22, 2002]

Status: Open meeting

Place: 450 Fifth Street, NW., Washington, DC

Announcement of Open Meeting: Open meeting.

The Commission will hold an Open Meeting on Friday, October 25, 2002 at 2:30 p.m., in Room 1C30, the William O. Douglas Room, to consider appointments to the Public Company Accounting Oversight Board.

The Commission (Chairman Pitt, Commissioners Glassman, Goldschmid, Atkins and Campos) determined that no earlier notice thereof was possible.

At times, changes in Commission priorities require alterations in the scheduling of meeting items. For further information and to ascertain what, if any, matters have been added, deleted or postponed, please contact: The Office of the Secretary at (202) 942-7070.

Dated: October 24, 2002.
Jonathan G. Katz,
Secretary.

[FR Doc. 02-27483 Filed 10-24-02; 12:30 pm]

BILLING CODE 8010-01-U